DEPARTMENT OF TRANSPORTATION

Pipeline and Hazardous Materials Safety Administration

49 CFR Part 192

[Docket No. PHMSA-RSPA-2004-19854; Amdt. 192-113]

RIN 2137-AE15

Pipeline Safety: Integrity Management Program for Gas Distribution Pipelines

AGENCY: Pipeline and Hazardous Materials Safety Administration (PHMSA), DOT.

ACTION: Final rule; extension of comment period.

SUMMARY: PHMSA is extending for 30 days, until February 4, 2010, the period for filing comments to the requirement adopted in the final rule, “Pipeline Safety: Integrity Management Program for Gas Distribution Pipelines” to require the reporting of failures of compression couplings used in metal pipe. PHMSA had invited public comment on the extension of this requirement to include reporting of failure of compression couplings used in metal pipe until January 4, 2010. The American Gas Association (AGA) requested that PHMSA extend the comment period for thirty days.

DATES: Comment Date: Interested persons are invited to submit comments on the provisions for reporting failures of compression couplings by February 4, 2010. At the end of the comment period, we will publish a document modifying these provisions or a document stating that the provisions will remain unchanged.

ADDRESSES: Comments limited to the provisions on reporting failures of mechanical couplings should reference Docket No. PHMSA-RSPA-2004-19854 and may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: In the E-Gov Web site: http://www.regulations.gov, under “Search Documents” select “Pipeline and Hazardous Materials Safety Administration.” Next, select “Notices,” and then click “Submit.” Select this rulemaking by clicking on the docket number listed above. Submit your comment by clicking the yellow bubble in the right column then following the instructions.

Identify docket number PHMSA-RSPA-2004-19854 at the beginning of your comments. For comments by mail, please provide two copies. To receive PHMSA's confirmation receipt, include a self-addressed stamped postcard. Internet users may access all comments at http://www.regulations.gov, by following the steps above.

Note: PHMSA will post all comments without changes or edits to http://www.regulations.gov including any personal information provided.

FOR FURTHER INFORMATION CONTACT: Mike Israni by phone at (202) 366-4571 or by e-mail at Mike.Israni@dot.gov.

SUPPLEMENTARY INFORMATION: On December 4, 2009, PHMSA published a final rule (74 FR 63905) under Docket No. PHMSA-RSPA-2004-19854 amending the Pipeline Safety Regulations (49 CFR Parts 190-199) to require operators of gas distribution pipelines to develop and implement integrity management programs. In that final rule, PHMSA adopted a requirement that operators report failures of all compression couplings, both plastic and metallic. PHMSA also invited public comment on the requirement to report failure of compression couplings used in metal pipe. Public comments were due by January 4, 2010.

On December 18, 2009, AGA petitioned PHMSA to extend the comment period by thirty days. AGA stated that it is in the public interest to extend the comment period so that gas utilities have the opportunity to thoroughly review the regulation and draft annual report. AGA went on to say that extending the comment period is the only way to provide PHMSA with the necessary information to establish clear and consistent data. PHMSA agrees that additional time should be allowed and is extending the comment period from January 4, 2010 to February 4, 2010.

Issued in Washington, DC, on December 28, 2009.
Jeffrey D. Wiese,
Associate Administrator for Pipeline Safety.

[FR Doc. E9-31078 Filed 12-30-09; 8:45 am]

BILLING CODE 4910-60-P